DEPARTMENT OF ENERGY

Federal Energy Regulatory Commission

[Docket No. RP00-541-000]

Venice Gathering System, L.L.C.; Notice of Tariff Filing

September 21, 2000.

Take notice that on September 13, 2000, Venice Gathering System, L.L.C. (Venice) tendered for filing as part of its FERC Gas Tariff, Original Volume No. 1, the following tariff sheets, with an effective date of March 27, 2000:

First Revised Sheet No. 117

First Revised Sheet No. 118

First Revised Sheet No. 120

First Revised Sheet No. 125

First Revised Sheet No. 132

First Revised Sheet No. 133

First Revised Sheet No. 134

First Revised Sheet No. 144

First Revised Sheet No. 152

Venice states that copies of the filing have been served on all current customers of Venice.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24773 Filed 9-26-00; 8:45 am]

BILLING CODE 6717-01-M